DEPARTMENT OF LABOR

Employment and Training Administration

[TA-W-64,708]

NuTech Tooling Systems, Inc.; Meadville, PA; Notice of Termination of Investigation

Pursuant to Section 221 of the Trade Act of 1974, as amended, an investigation was initiated on December 17, 2008 in response to a petition filed by a company official on behalf of the workers at NuTech Tooling Systems, Inc., Meadville, Pennsylvania.

The petitioner has requested that the petition be withdrawn. Consequently, the investigation has been terminated.

Signed at Washington, DC, this 2nd day of April 2009.
Richard Church,
Certifying Officer, Division of Trade Adjustment Assistance.

[FR Doc. E9-10365 Filed 5-5-09; 8:45 am]

BILLING CODE 4510-FN-P